DEPARTMENT OF TRANSPORTATION

Federal Aviation Administration

14 CFR Part 73

[Docket No. FAA-2003-13850; Airspace Docket No. 02-AEA-19]

RIN 2120-AA66

Proposed Amendment of Restricted Areas R-5802A and B; and Establishment of Restricted Areas R-5802C, D, and E, Fort Indiantown Gap, PA

AGENCY: Federal Aviation Administration (FAA), DOT.

ACTION: Notice of proposed rulemaking (NPRM).

SUMMARY: This action proposes to expand the dimensions, and increase the time of designation, of the restricted airspace at the Fort Indiantown Gap Military Reservation, PA. This proposed action would convert the existing Kiowa Military Operations Area (MOA) to restricted airspace and would establish three new restricted areas: R-5802C, D, and E. This action would raise the ceiling of restricted airspace at Fort Indiantown Gap from the current 13,000 feet above mean sea level (MSL) to Flight Level 250 (FL 250). In addition, this action would change the name of the using agency for the restricted areas. The current restricted airspace at Fort Indiantown Gap is too small to allow aircrew training in weapons delivery tactics that are used in a high anti-aircraft threat environment. The expanded restricted airspace is needed to conduct realistic aircrew training and to maintain the level of proficiency in modern tactics that is required for combat readiness.

DATES: Comments must be received on or before September 29, 2003.

ADDRESSES: Send comments on this proposal to the Docket Management System, U.S. Department of Transportation, Room Plaza 401, 400 Seventh Street, SW., Washington, DC 20590-0001. You must identify both docket numbers, FAA-2003-13850/Airspace Docket No. 02-AEA-19 at the beginning of your comments.

You may also submit comments through the Internet to http://dms.dot.gov. You may review the public docket containing the proposal, any comments received, and any final disposition in person in the Dockets Office between 9 a.m. and 5 p.m., Monday through Friday, except Federal holidays. The Dockets Office (telephone 1-800-647-5527) is on the plaza level of the NASSIF Building at the Department of Transportation at the above address.

An informal docket may also be examined during normal business hours at the office of the Regional Air Traffic Division, Federal Aviation Administration, 1 Aviation Plaza, Jamaica, NY 11434.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket Nos. FAA-2003-13850/Airspace Docket No. 02-AEA-19.” The postcard will be date/time stamped and returned to the commenter. Send comments on environmental and land use aspects to: National Guard Bureau, NGB/CEVP, 1411 Jefferson Davis Highway, Arlington, VA 22202-3231. All communications received on or before the specified closing date for comments will be considered before taking action on the proposed rule. The proposal contained in this notice may be changed in light of comments received. All comments submitted will be available for examination in the Rules Docket both before and after the closing date for comments. A report summarizing each substantive public contact with FAA personnel concerned with this rulemaking will be filed in the docket.

Availability of NPRM's

An electronic copy of this document may be downloaded from the FAA regulations section of the Fedworld electronic bulletin board service (telephone: 703-321-3339) or the Federal Register's electronic bulletin board service (telephone: 202-512-1661) using a modem and suitable communications software.

Internet users may reach the FAA's web page at http://www.faa.gov or the Federal Register's web page at http://www.access.gpo.gov/nara for access to recently published rulemaking documents.

Any person may also obtain a copy of this NPRM by submitting a request to the FAA, Office of Air Traffic Airspace Management, ATA-400, 800 Independence Avenue, SW., Washington, DC 20591, or by calling (202) 267-8783. Communications must identify both docket numbers of this NPRM. Persons interested in being placed on a mailing list for future NPRM's should call the FAA, Office of Rulemaking, (202) 267-9677, to request a copy of Advisory Circular No. 11-2A, which describes the application procedure.

Background

The airspace at the Fort Indiantown Gap Military Reservation currently consists of two small restricted areas and one MOA. A MOA is a type of nonregulatory special use airspace designated by the FAA to contain certain nonhazardous military flying activities, such as air combat maneuvers, low altitude tactics, etc.

The existing restricted areas at Fort Indiantown Gap are: R-5802A, extending from 200 feet above ground level (AGL) to 5,000 feet MSL; and R-5802B, extending from the surface up to 13,000 feet MSL. The Kiowa MOA lies adjacent to the restricted areas and extends from 500 feet AGL up to 13,000 feet MSL. These airspace areas are also referred to as the Bollen Range.

Due to its small lateral and vertical dimensions, the Bollen Range cannot be used for High Altitude Dive Bomb training and other training events such as lights-out tactics and use of targeting laser systems.

The Proposal

The FAA is considering an amendment to 14 CFR part 73 to expand the size, and increase the time of designation, of the restricted airspace at the Bollen Range, Fort Indiantown Gap, PA. With this amendment, the existing lateral and vertical limits of Restricted Areas R-5802A and R-5802B would remain unchanged, but the time of designation for the two areas would be changed to read “Daily, sunrise to 2200.”

A new restricted area, R-5802C, would be established consisting primarily of that airspace currently designated as the Kiowa MOA. The Kiowa MOA designation would be revoked. Restricted Area R-5802C would extend from 500 feet AGL up to 17,000 feet MSL.

Another new restricted area, R-5802D, would be designated from 17,000 feet MSL to but not including FL 220. Restricted Area R-5802D would overlie Restricted Areas R-5802A, B, and C.

Additionally, a new restricted area, R-5802E, would be designated extending from FL 220 to FL 250. Restricted Area R-5802E would be defined using the same northern and eastern boundaries as Restricted Area R-5802D, but the south and west boundaries of Restricted Area R-5802E would extend an additional 4 nautical miles beyond the corresponding boundaries of Restricted Area R-5802D.

This proposal would change the time of designation for all Bollen Range airspace from the current “February 15 through May 10 and September 1 through December 15, 0800-2300 local time on Saturdays and 0800-1200 local time on Sundays; May 11 through August 31, 0800-2400 local time on Saturdays and 0800-2000 local time on all other days; other times by NOTAM issued at least 48 hours in advance,” to “Daily, sunrise to 2200.” This change would increase the available hours that the Range could be scheduled for use. The restricted areas would be available for joint-use. This means that the restricted areas would be scheduled only when needed for training, and would be available for transit by non-participating aircraft when not in use.

This action also proposes to change the name of the using agency of the Bollen Range airspace from “Commander, Fort Indiantown Gap, Annville, PA,” to “ANG, 193rd SOW, Det 1, Fort Indiantown Gap Military Reservation, PA.”

The Air National Guard has proposed these changes because the restricted airspace existing at Bollen Range is too small to permit essential aircrew training in the tactics used in recent real-world engagements. The current 13,000-foot MSL upper limit of the Range is not sufficient to satisfy high altitude weapons release training requirements. Also, the current lateral dimensions do not provide sufficient restricted airspace to contain required maneuvering, lights-out training, or the use of targeting laser systems.

Section 73.58 of 14 CFR part 73 was republished in FAA Order 7400.8K, dated September 26, 2002. The coordinates for this airspace action are based on North American Datum of 1983.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.58 [Amended]

2. § 73.58 is amended as follows:

* * * * *

R-5802A Fort Indiantown Gap, PA [Amended]

By removing the current “Time of Designation” and “Using agency” and substituting “Time of Designation. Daily, sunrise to 2200” and “Using agency. ANG, 193rd SOW, Det 1, Fort Indiantown Gap Military Reservation, PA.”

R-5802B Fort Indiantown Gap, PA [Amended]

By removing the current “Time of Designation” and “Using agency” and substituting “Time of Designation. Daily, sunrise to 2200.” and “Using agency. ANG, 193rd SOW, Det 1, Fort Indiantown Gap Military Reservation, PA.”

R-5802C Fort Indiantown Gap, PA [New]

Boundaries. Beginning at lat. 40°23′24″ N., long. 76°43′34″ W.; to lat. 40°25′06″ N., long. 76°44′47″ W.; to lat. 40°28′00″ N., long. 76°46′59″ W.; to lat. 40°29′42″ N., long. 76°42′59″ W.; to lat. 40°29′31″ N., long. 76°39′07″ W.; to lat. 40°28′31″ N., long. 76°36′21″ W.; to lat. 40°27′13″ N., long. 76°35′13″ W.; to lat. 40°26′18″ N., long. 76°36′40″ W.; thence to point of beginning.

Designated altitudes. 500 feet AGL to but not including 17,000 feet MSL.

Time of designation. Daily, sunrise to 2200.

Controlling agency. FAA, New York ARTCC.

Using agency. ANG, 193rd SOW, Det 1, Fort Indiantown Gap Military Reservation, PA.

R-5802D Fort Indiantown Gap, PA [New]

Boundaries. Beginning at lat. 40°23′24″ N., long. 76°43′34″ W.; to lat. 40°25′06″ N., long. 76°44′47″ W.; to lat. 40°28′00″ N., long. 76°46′59″ W.; to lat. 40°29′42″ N., long. 76°42′59″ W.; to lat. 40°29′31″ N., long. 76°39′07″ W.; to lat. 40°28′31″ N., long. 76°36′21″ W.; to lat. 40°27′13″ N., long. 76°35′13″ W.; to lat. 40°26′18″ N., long. 76°36′40″ W.; thence to point of beginning.

Designated altitudes. 17,000 feet MSL to but not including FL 220.

Time of designation. Daily, sunrise to 2200.

Controlling agency. FAA, New York ARTCC.

Using agency. ANG, 193rd SOW, Det 1, Fort Indiantown Gap Military Reservation, PA.

R-5802E Fort Indiantown Gap, PA [New]

Boundaries. Beginning at lat. 40°29′42″ N., long. 74°42′59″ W.; to lat. 40°29′31″ N., long. 76°39′07″ W.; to lat. 40°28′31″ N., long. 76°36′21″ W.; to lat. 40°27′13″ N., long. 76°35′13″ W.; to lat. 40°23′45″ N., long. 76°32′36″ W.; to lat. 40°22′50″ N., long. 76°34′03″ W.; to lat. 40°19′55″ N., long. 76°40′59″ W.; thence clockwise along the arc of a 4-nautical-mile radius circle centered at lat. 40°23′24″ N., long. 76°43′34″ W.; to lat. 40°21′48″ N., long. 76°48′18″ W.; to lat. 40°26′04″ N., long. 76°51′34″ W.; to lat. 40°28′00″ N., long. 76°46′59″ W.; thence to point of beginning.

Designated altitudes. FL 220 to FL 250.

Time of designation. Daily, sunrise to 2200.

Controlling agency. FAA, New York ARTCC.

Using agency. ANG, 193rd SOW, Det 1, Fort Indiantown Gap Military Reservation, PA.

Issued in Washington, DC, on August 8, 2003.
Reginald C. Matthews,
Manager, Airspace and Rules Division.

[FR Doc. 03-20772 Filed 8-13-03; 8:45 am]

BILLING CODE 4910-13-P